DEPARTMENT OF HEALTH AND HUMAN SERVICES

Office of the Assistant Secretary for Administration and Management; Program Support Center; Statement of Organization, Functions and Delegations of Authority

This notice amends Part (P) of the Statement of Organization, Functions and Delegations of Authority of the Department of Health and Human Services (HHS), Office of the Assistant Secretary for Administration and Management (AJ), Program Support Center (P), as last amended at 73 FR 39314, and dated July 9, 2008. This notice will make the following organizational changes in the Program Support Center (PSC): realign the functions of the Administrative Operations Service (PE) and the Enterprise Systems Service (PB), and retitle the Enterprise Systems Service as the Information and Systems Management Service (ISMS) to more accurately reflect the consolidation of the information technology activities dispersed between these two components. The changes are as follows:

I. Under Part P, Chapter PE, “Administrative Operations Service,” make the following changes:

A. Under Section PE-10 Organization, delete in its entirety and replace with the following:

Section PE-10 Organization. The Administrative Operations Service is headed by a Director who reports directly to the PSC Director, and includes the following components:

1. Immediate Office of the Director, Administrative Operations Service (PEA);

2. Cooperative Administrative Service Units PEAF2 (New York); PEAF7 (Kansas City); PEAF8 (Denver);

3. Division of Property Management & Logistics (PEC);

4. Division of Security and Emergency Services (PEL);

5. Commissioned Corps Support Services (PEN);

6. Division of Payroll Services (PEO); and

7. Division of Equal Employment Opportunity Services (PEM)

1. Immediate Office of the Director (PEA). The Immediate Office of the Director, Administrative Operations Service oversees the delivery of administrative and technical services to HHS components and other Federal agencies nationwide. These services include: (1) Property management, building operations, surplus real property, and leasing; (2) warehousing, logistics and space management services; (3) security services; (4) mail distribution and handling; (5) conference management services; (6) payroll services; (7) U.S. Public Health Service Commissioned Corps personnel assistance; (8) Equal Employment Opportunity servicing and claims processing functions; and (9) media and printing services.

2. Cooperative Administrative Service Units (PEAF2, PEAF7, PEAF8). The Cooperative Administrative Service Units (CASU) provide acquisition and deliver commonly needed PSC services and support to customers in the Regions. The CASUs perform the following functions in the Regions: (1) Deliver a variety of services tailored to the needs of Federal customer agencies, including: security services, financial management and procurement services, facilities management, mail operations, printing procurement, reprographics, copier management, forms and supplies distribution, moving services, personal property repair, and technology support and training; and (2) handles all contract, finance and contractor issues on behalf of their customer agencies.

3. Division of Property Management & Logistics (PEC). The Division of Property Management and Logistics (DPML) provides the following related services: (1) Building safety program, lease management, building management and operations, building alteration, repair and maintenance program; parking management, information and locator services; supply and inventory management; (2) shipping, receiving and laboring service and operates a property management and surplus property utilization and disposal system; and (3) on behalf of the Secretary, executes and implements the transfer of Federal surplus real property for public health purposes pursuant to sections 203(k) and (n) of the Federal Property and Administrative Services Act of 1949, as amended; and (4) Provides mail and messenger services; (5) support services for conference room facilities; (6) provides graphic design, printing, and reprographic services including high speed digital reproduction, electron image production, and product distribution; and (7) provides technical assistance and job planning; maintains photocopiers in customer locations throughout HHS.

4. Division of Security and Emergency Services (PEL). The Division of Security and Emergency Services (DSES) provides overall leadership, direction, coordination and planning to improve security and emergency services to HHS components, as well as other Federal agencies. Specifically, (1) Establishes program goals, objectives, priorities and provides oversight as to their execution; (2) plans, directs, coordinates and evaluates program-wide management activities; (3) maintains effective relationships with Department of Health and Human Services (HHS) organizations, other Federal agencies, State and local governments and other public and private organizations concerned with providing security and assisting with emergencies; and (4) plans, directs and coordinates administrative management activities, i.e. budget, finance, personnel, procurements, emergency planning, training, and has responsibilities related to awarding PSC contract funds.

5. Commissioned Corps Support Services (PEN). The Commissioned Corps Support Services Division (CCSS): (1) Performs all personnel operations functions associated with the Commissioned Corps personnel system, including functional areas of billet evaluation, pay administration, employment, awards, and decorations and provides technical and advisory services and counseling to management and employees; (2) provides advice and counseling concerning personnel management of the Commissioned Corps; (3) serves as the central repository for all records reflecting the service and status of members of the Corps and administers the Beneficiary Medical Program; (4) administers the Commissioned Corps retirement program and survivors assistance program; and (5) provides technical support for the Commissioned Corps personnel and pay system.

6. Division of Payroll Services (PEO). The Division of Payroll Services (DPS): (1) Serves as liaison to the Defense Finance and Accounting Service who processes the F-IHS payroll; (2) manages and conducts payroll accounting, reconciliation, and adjustment processing, produces feeder reports for HHS accounting systems, and coordinates the Department's employee debt collection program related to payroll issues; (3) processes all actions relative to separated employees, including retirement and other separation actions, maintains retirement records and processes death benefit claims; (4) audits leave accounts and processes unemployment compensation actions; and (5) diagnoses problems and devises solutions to systemic problems and inefficiencies.

7. Division of Equal Employment Opportunity Services (PEM). The Division of Equal Employment Opportunity (DEEO): (1) Encourages and assists the PSC and its customers in voluntarily taking affirmative steps to correct the effects of past discrimination and prevent present and future discrimination without resorting to litigation or other formal government action; (2) works toward achieving the Federal and the HHS goal of having a fully representative workforce which includes members of racial and ethnic groups as well as people with disabilities; (3) administers special emphasis and diversity programs designed to accommodate the special needs of particular groups. This includes programs such as the Hispanic Employment Program, the Federal Women's Program, The People with Disabilities Program, and programs concerning African Americans, Asian Americans/Pacific Islanders, and American Indians/Alaskan Natives; (4) seeks to identify and eliminate discriminatory policies and practices from the workplace based on race, national origin, color, sex, age, religion, disability, sexual orientation or reprisal; (5) promotes the early resolution of complaints of discrimination, and provides for the prompt, fair and impartial processing of discrimination complaints; and (6) manage several of HHS OPDIVs EEO complaints processing program.

II. Delete Section PB, the “Enterprise Support Service,” in its entirety.

III. Establish Section PI, “Information and Systems Management Service.”

Section PI.00 Mission: The mission of the Information and Systems Management Service (ISMS) is to provide high-quality information technology services including project management, application development, operations and maintenance, infrastructure support services, records management and requests for access to information from the public.

Section PI-10 Organization. The Information and Systems Management Service (ISMS) is headed by a Director who reports directly to the PSC Director, and includes the following components:

1. Immediate Office of the Director (PTA)

2. Program Management Services Division (PIB)

3. Division of Information Technology Infrastructure & Operations (PIC)

4. Division of Enterprise Systems Services (PIH)

5. Telecommunications Management Division (PID)

6. Freedom of Information Act and Records Management Division (PIF)

Section PI-20 Functions. ISMS functions include the following:

1. Immediate Office of the Director, ISMS (PIA): The Immediate Office of the ISMS Director (IO/ISMSD) oversees the implementation of information services to HHS components and other Federal agencies nationwide and implements Federal Government and HHS-specific information technology policy. ISMS business functions include: (1) Provides leadership and overall management for information technology resources for which PSC has responsibility; (2) directs the development, implementation, and enforcement of the Office of the Secretary and the PSC's information technology architecture, policies, standards, and acquisitions in all areas of information technology; (3) oversees PSC's information systems security program, and serves as PSC Information Technology Security Officer (PSC/ITSO); (4) manages and directs the PSC's IT business functions including business planning, development, budgeting and fiscal planning, establishing service level agreements, assessing customer satisfaction, assuring compliance with the Government Performance Results Act (GPRA) and overseeing capital planning and investment control (CPIC) for IT initiatives, researching emerging technologies and managing business systems initiatives; (5) provides operations and maintenance support services; (6) provides application software development support; (7) provides and updates PSC content for the HHS Intranet and Internet; plans and implements Section 508 compliance and remediation for Web content and other media for the PSC (in coordination with the HHS Web Communications Division, Office of the Assistant Secretary for Public Affairs); and (8) provides the Freedom of Information Act (FOIA) and record-keeping services.

2. Program Management Services Division (PIB). The Program Management Services Division (PMSD) performs the following functions: (1) Planning, estimation, and project management of information technology projects; (2) assess IT projects and programs in accordance with Federal policy directives and commercial best-practices; (3) deliver Project Officer services for IT services contracts including development of acquisition strategy, development of Statement of Work, contractor or vendor technical evaluations, and ongoing review of contractor performance against contract performance standards; (4) define the technical and functional requirements for new or enhanced systems; (5) perform cost-benefit analyses and facilitate buy or build decisions; (6) conduct review of selected vendor products or services; and (7) deliver information systems security services including audits, certifications and accreditations, develop security standard operating procedures, and disaster recovery planning in accordance with Departmental policy.

3. Division of Information Technology Infrastructure and Operations (PIC) Section PIC.OO Mission. The mission of the Division of Information Technology Infrastructure and Operations (DITIO) is to provide information technology infrastructure support services, including the use of a performance-based contract model to participating components within HHS. The services provided include network services; Help Desk, Call Center, and Desktop support services; server management and monitoring, server hosting, network architecture; IT security services; and Continuity of Operations Planning (COOP) support. As appropriate, the Division coordinates IT initiatives with the Office of the Chief Information Officer, Office of the Assistant Secretary for Resources and Technology.

Section PIC. 10 Organization. The Division of Information Technology Infrastructure and Operations (DITIO) reports to the ISMS Director, and includes the following components:

a. Immediate Office of the Director (PIC)

b. Customer Services Branch (PIC1)

c. Technical Services and Operations Branch (PIC2)

d. Program and Contract Management Branch (PIC3)

Section PIC.20 Functions

a. Immediate Office of the Director (PIC): The Immediate Office of the Director, Division of Information Technology Infrastructure and Operations provides leadership, guidance and oversight to the ISMS and oversees the development and implementation of administrative support functions for DITIO including administrative policies, financial operating plans, budgeting and personnel management. Develops, maintains and implements the DITIO Strategic Plan. Prepares staffing forecasts, analyzes staffing requirements and utilization, and recommends strategies for changes in human capital within DITIO.

b. Customer Services Branch (PIC1): The Customer Services Branch (CSB) provides end user support for all customers receiving IT infrastructure support services. It performs the following functions: (1) Serves as the customers' point of contact for escalation of service issues; (2) coordinates with the contractor and customers for IT issues; (3) serves as the customers' point of contact for new equipment and service requests; (4) coordinates with customers to develop equipment and service requirements documentation; (5) prepare and issue broadcast communications to participating customers; (6) develops, maintains and implements the DITIO Communications Plan; (7) monitors Service Level Agreement (SLA) compliance; (8) develops implementation plans in support of new customer organizations; and (9) oversees the information technology inventory data collection for customer organizations.

c. Technical Services and Operations Branch (PIC2): The Technical Services and Operations Branch (TSOP) provides for IT policy development; capital planning; information security, and implementation and operational responsibilities, as required for participating HHS components. It performs the following functions: (1) Designs, develops, tests, implements and maintains operational needs for enterprise initiatives; (2) coordinates the strategic planning process to assure that technical plans support business planning and mission accomplishment; (3) assists with the budgeting process for DITIO and the IT infrastructure technical support services; (4) monitors the operational responsibility for enterprise email system; (5) develops policies and guidance on information resources and technology management; including telecommunications, as required by laws, regulations and Departmental guidance; (6) implements the security program to protect information resources in compliance with laws, Executive Orders, OMB Directives, other Federal mandates and HHS guidance, e.g., Clinger-Cohen Act, Presidential Decision Directive 63, and OMB Circular A-130; (7) develops and maintains information security programs and policies to provide availability, confidentiality and integrity of information and network services; (8) coordinate the development and implementation of cyber security policies and guidance, including requirements for employees and contractors who are responsible for systems or data, or for the acquisition, management or use of information resources; (9) monitors information system security program activities by reviewing security plans for systems, implementing improvements and evaluating safeguards to protect information systems and IT infrastructure; (10) responds to requests in conjunction with OMB Circular A-130, the Computer Security Act of 1987, Presidential Decision Directive 63, Homeland Security Presidential Directive 12 (HSPD-12), Federal Information Security Management Act (FISMA), and other legislative or mandated requirements related to IT security or privacy; (11) in accordance with Departmental policy, establishes and leads teams to conduct reviews of cyber and personnel security programs and conduct vulnerability assessments of critical assets; (12) monitors operations for security compliance. Provides advice and guidance to ensure compliance standards are included throughout the system development life cycle; (13) provides recommendations to grant or deny programs the authority to operate information systems based on security compliance to include regular certification of existing systems as well as newly implemented systems; and (14) participates on the HHS Computer Security Incident Response Capability Team and the Department's overall cyber security incident response and coordination center.

d. Program and Contract Management Branch (PIC3): The Program and Contract Management Branch (PCMB) are responsible for all contractual, technical, financial and logistical matters associated with the provision of IT infrastructure support services. It performs the following functions: (1) Serves as the Program Management Office (PMO), including the Contracting Officer's Technical Representative (COTR); (2) identifies operational requirements for contract revision; (3) coordinates operational changes to the technical environment based upon customer requirements; (4) reviews and provides oversight and direction for IT assets management transfer and inventory; (5) monitors situational awareness of operational status including systems, service levels, networks, and planned events outages; (6) monitors and reports performance using Service Level Agreements (SLA); (7) monitors and reports on customer satisfaction; (8) tracks and reviews program budget and costs in accordance with validated requirements; (9) identifies policy requirements in support of service delivery, IT budgeting and investment control; (10) assists in developing the necessary background materials and recommendations for capital funding decisions and develops performance metrics to evaluate program for both initial and continued funding; and (11) reviews information resources to avoid having redundant resources, in conformance with the Clinger-Cohen Act.

4. Division of Enterprise Systems Services (PIH). The Division of Enterprise Systems Services (DESS): Provides the full range of technical support activities associated with the development and maintenance of information technology systems; specifically: (1) Analyzes, designs, and implements system changes, enhancements, and new requirements; (2) provides customer liaison services to resolve issues and improve customer service; (3) administers PSC data resources including database administration; (4) provides and implements data analysis activities that assist in technology or workforce decision making as well as application and regulatory reporting; (5) develops detailed system and subsystem specifications, program specifications, program modules, files, databases, libraries, and documentation necessary to support system maintenance and development activities; (6) participates in the development of unit test criteria and test methodology necessary to conduct system or subsystem and program level tests needed to ensure the integrity of information technology systems; (7) implements enterprise resource planning systems, including but not limited to, using commercial-off the-shelf (COTS) packages; (8) develops and implements emerging technology projects which cross cut service business lines; (9) assists in the design, development, and maintenance of PSC Web applications in accordance with the HHS Chief Information Officer and the Office of the Assistant Secretary for Public Affairs policies and practices; and (10) provides support for Unified Financial Management System (UFMS), and Healthcare Acquisition System (HCAS).

a. Enterprise Systems Services Programs Branch (PIH1). The Enterprise Systems Service Programs Branch (ESSPB): (1) Manages and directs activities of the Division; (2) develops Business Case Analyses, Project Plans and Statements of Work; (3) develops continuity of operations (COOP) test plan, test case scenarios, and performs scheduled testing; (4) conducts reviews and analysis to identify security threats or vulnerabilities to systems and data; (5) develops and updates information security plans, risk assessments, continuity of operations plans and other certification and accreditation efforts for systems under its purview; (6) documents, tracks, and monitors activities to eliminate IT security weaknesses, and implement approaches to resolve weaknesses; (7) performs internal systems audits using random samples and document results, resolves Departmental audit-related issues and findings; and (8) coordinates with external auditors and staff and management to provide complete, accurate, and timely information for SAS7O audits and conducts periodic reviews of security-related documentation to ensure compliance with Federal and Department regulations and policy.

b. Systems and Operations Branch (PIH2). The Systems and Operations Branch (SOB) has the following functions: (1) Performs operations and maintenance on PSC systems including, but not limited to human resources, procurement and financial management systems; (2) provide systems administration support for PSC systems; (3) provides data warehousing support for PSC systems; (4) provides hardware support for HHS servers; (5) provides capacity planning and system performance reporting; (6) conducts batch processing operations and production control; (7) provides database administration support for the HHS human resources management system; (8) provides administration and management of production testing environment; (9) provides application software support; (10) serves as network System Administrator for production and development systems; and (11) installs, configures, and maintains the Internet software environment for enterprise applications.

c. Quality Assurance and Support Branch (PIH3). The Quality Assurance and Support Branch (QASB) has the following functions: (1) Provides functional expertise and troubleshooting support for PSC systems; (2) develops system change requirements; (3) provides interagency IT communications support; (4) performs functional testing of PSC systems; (5) develops training materials for the HHS human resources management system and the HHS time and attendance system; (6) develops and maintains the HHS Time and Attendance Policy Manual; (7) provides advice on enhancement requests; (8) administers the help desk function and tracks all calls and e-mails for support for the human resources and time & attendance systems; (9) provides functional expertise to the technical staff; (10) provides system training including regulations and procedures related to IT; (11) assists in reviews of functional and system requirements and performs documentation testing to ensure the accuracy and completeness of all system enhancements; and (12) develops test plans, test cases, and scenarios.

d. Application Development Branch (PIH4). The Application Development Branch (ADB) provides the following functions: (1) Provides overall technical support for PSC systems; (2) provides software application management, systems administration, and configuration management; (3) provides software development services; (4) provides liaison services to other Agency offices providing automated interfaces; (5) evaluates and recommends various software and hardware products in support of the PSC's systems; (6) provides Tier 2 and Tier 3 “break/fix” support contact for users and help desk personnel for problems with FAD applications; (7) provides support for enterprise reporting; (8) develops and delivers current and/or historical personnel and payroll reports; (9) maintains existing reports, including periodic reports generated for the Office of Personnel Management and HHS internal and external customers; and (10) performs daily loading of HHS personnel data and bi-weekly loading of payroll data into the historical database.

5. Telecommunications Management Division (PID). The Telecommunications Management Division (TMD) provides the following services: (1) Plans, engineers, and schedules program implementation and management of telecommunications networks and services (such as ordering, installation, and operational control of telephone station equipment); (2) monitors telecommunications billing for dial-tone, voice mail, adds/moves/changes, and telecommunications equipment; (3) plans and administers telecommunications budgets; (4) maintains inventory files and cost data of all installed telecommunications equipment; (5) manages on-site support for users of voice messaging; (6) provides training for end users; and (7) administers the Federal Telecommunications Service contract, and manages carriers, contractors and vendors for PSC and its customers.

6. Freedom of Information Act and Records Management Division (PIF). The Freedom of Information Act (FOIA) and Records Management Division (FRMD): (1) Responds to all FOIA requests for records generated by, and in the custody and control of, all components of the Office of Public Health and Science (OPHS), and the Program Support Center (PSC); (2) responds to all requests for records that involve more than one of the Public Health Service components and the PSC; (3) responds to all administrative appeals; (4) coordinates with the Office of the General Counsel to resolve the administrative appeals which result in litigation; and (5) provides FOIA training and consultation.

III. Under AJ, “Office of Business Transformation (AJJ)” make the following change: Retitle the “Division of Competitive Sourcing (AJJ2)” as the “Division of Commercial Services Management (AJJ2).”

IV. Delegations of Authority: All delegations and re-delegations of authority to officers and employees of the Program Support Center, which were in effect immediately prior to this reorganization will be continued in effect with them or their successors, pending further redelegation, provided they are consistent with this reorganization.

Dated: December 20, 2008.
Segundo Pereira,
Acting, Assistant Secretary for Administration and Management.

[FR Doc. E8-31257 Filed 1-2-09; 8:45 am]

BILLING CODE 4160-17-M